DEPARTMENT OF THE TREASURY

Office of Foreign Assets Control

31 CFR Part 587

Publication of Russian Harmful Foreign Activities Sanctions Regulations Web General Licenses 1, 1A, 2, 3, 4, 5, and 7

AGENCY: Office of Foreign Assets Control, Treasury.

ACTION: Publication of Web General Licenses.

SUMMARY: The Department of the Treasury's Office of Foreign Assets Control (OFAC) is publishing seven general licenses (GLs) issued in the Russian Harmful Foreign Activities Sanctions program: GLs 1, 1A, 2, 3, 4, 5, and 7, each of which was previously made available on OFAC's website.

DATES: GL1, issued on May 21, 2021, was superseded by GL 1A, issued on August 20, 2021. See SUPPLEMENTARY INFORMATION for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treas.gov/ofac.

Background

On May 21, 2021, OFAC issued GL 1 to authorize certain activities prohibited by the Protecting Europe's Energy Security Act of 2019, 22 U.S.C. 9526 note, as amended. On August 20, 2021, OFAC issued GL 1A, which superseded GL 1.

On February 22, 2022, OFAC issued GL 2 and GL 3 to authorize certain activities prohibited by Executive Order (E.O.) 14024 of April 15, 2021, “Blocking Property With Respect To Specified Harmful Foreign Activities of the Government of the Russian Federation” (86 FR 20249, April 19, 2022). GL 3 expired on March 24, 2022. On February 23, 2022, OFAC issued GL 4 to authorize certain activities prohibited by E.O. 14039 of August 20, 2021, “Blocking Property with Respect to Certain Russian Energy Export Pipelines” (86 FR 47205, August 24, 2021). GL 4 expired on March 2, 2022.

On February 24, 2022, OFAC issued GLs 5 and 7, among others, to authorize certain activities prohibited by E.O. 14024.

At the time of issuance, OFAC made GLs 1, 1A, 2, 3, 4, 5, and 7 available on its website (www.treas.gov/ofac). The text of these GLs is provided below.

OFFICE OF FOREIGN ASSETS CONTROL

Protecting Europe's Energy Security Act of 2019 22 U.S.C. 9526 Note, as Amended

GENERAL LICENSE NO. 1

Authorizing Certain Activities Involving Federal State Budgetary Institution Marine Rescue Service

(a) Except as provided in paragraph (b) of this general license, all transactions and activities prohibited by the Protecting Europe's Energy Security Act of 2019, 22 U.S.C. 9526 note, as amended (PEESA), involving Federal State Budgetary Institution Marine Rescue Service (MRS), or any entity in which MRS owns, directly or indirectly, a 50 percent or greater interest, that are not related to the construction of the Nord Stream 2 pipeline project, the TurkStream pipeline project, or any project that is a successor to either such project, are authorized.

(b) This general license does not authorize:

(1) Any transactions or activities involving any vessels identified on the Office of Foreign Assets Control's Non-SDN Menu-Based Sanctions List (NS-MBS List) as blocked property of MRS or of any entity in which MRS owns, directly or indirectly, a 50 percent or greater interest; or

(2) Any transactions or activities otherwise prohibited by PEESA, or prohibited by any part of 31 CFR chapter V, other statute, or Executive order, or involving any blocked person other than the blocked persons identified in paragraph (a) of this general license.

Bradley T. Smith,

Acting Director, Office of Foreign Assets Control.

Dated: May 21, 2021.

OFFICE OF FOREIGN ASSETS CONTROL

Executive Order of August 20, 2021

Blocking Property With Respect to Certain Russian Energy Export Pipelines

Protecting Europe's Energy Security Act of 2019 22 U.S.C. 9526 Note, as Amended

GENERAL LICENSE NO. 1A

Authorizing Certain Activities Involving Federal State Budgetary Institution Marine Rescue Service

(a) Except as provided in paragraph (b) of this general license, all transactions and activities prohibited by Executive Order (E.O.) of August 20, 2021 or the Protecting Europe's Energy Security Act of 2019, 22 U.S.C. 9526 note, as amended (PEESA), involving Federal State Budgetary Institution Marine Rescue Service (MRS), or any entity in which MRS owns, directly or indirectly, a 50 percent or greater interest, that are not related to the construction of the Nord Stream 2 pipeline project, the TurkStream pipeline project, or any project that is a successor to either such project, are authorized.

(b) This general license does not authorize:

(1) Any transactions or activities involving any vessels identified on the Office of Foreign Assets Control's Specially Designated Nationals and Blocked Persons List (SDN List) as blocked property of MRS, including vessels identified as blocked property of any entity in which MRS owns, directly or indirectly, a 50 percent or greater interest; or

(2) Any transactions or activities otherwise prohibited by E.O. of August 20, 2021 or PEESA, or prohibited by any part of 31 CFR chapter V, other statute, or other Executive order, or involving any blocked person other than the blocked persons identified in paragraph (a) of this general license.

(c) Effective August 20, 2021, General License No. 1, dated May 21, 2021, is replaced and superseded in its entirety by this General License No. 1A.

Bradley T. Smith,

Acting Director, Office of Foreign Assets Control.

Dated: August 20, 2021.

OFFICE OF FOREIGN ASSETS CONTROL

Executive Order 14024 of April 15, 2021

Blocking Property With Respect to Specified Harmful Foreign Activities of the Government of the Russian Federation

GENERAL LICENSE NO. 2

Authorizing Certain Servicing Transactions Involving State Corporation Bank for Development and Foreign Economic Affairs Vnesheconombank

(a) Except as provided in paragraph (b) of this general license, all transactions prohibited by Executive Order (E.O.) 14024 involving State Corporation Bank for Development and Foreign Economic Affairs Vnesheconombank (VEB), or any entity in which VEB owns, directly or indirectly, a 50 percent or greater interest, that are ordinarily incident and necessary to the servicing of bonds issued before March 1, 2022 by the Central Bank of the Russian Federation, the National Wealth Fund of the Russian Federation, or the Ministry of Finance of the Russian Federation are authorized.

(b) This general license does not authorize:

(1) Any transactions prohibited by Directive 1A under E.O. 14024, Prohibitions Related to Certain Sovereign Debt of the Russian Federation; or

(2) Any transactions involving any person blocked pursuant to E.O. 14024 other than the blocked persons described in paragraph (a) of this general license, unless separately authorized.

Andrea M. Gacki,

Director, Office of Foreign Assets Control.

Dated: February 22, 2022.

OFFICE OF FOREIGN ASSETS CONTROL

Executive Order 14024 of April 15, 2021

Blocking Property With Respect To Specified Harmful Foreign Activities of the Government of the Russian Federation

GENERAL LICENSE NO. 3

Authorizing the Wind Down of Transactions Involving State Corporation Bank for Development and Foreign Economic Affairs Vnesheconombank

(a) Except as provided in paragraph (b) of this general license, all transactions prohibited by Executive Order (E.O.) 14024 that are ordinarily incident and necessary to the wind down of transactions involving State Corporation Bank for Development and Foreign Economic Affairs Vnesheconombank (VEB), or any entity in which VEB owns, directly or indirectly, a 50 percent or greater interest, are authorized through 12:01 a.m. eastern daylight time, March 24, 2022.

(b) This general license does not authorize any transactions involving any person blocked pursuant to E.O. 14024 other than the blocked persons described in paragraph (a) of this general license, unless separately authorized.

Andrea M. Gacki,

Director, Office of Foreign Assets Control.

Dated: February 22, 2022.

OFFICE OF FOREIGN ASSETS CONTROL

Executive Order 14039 of August 20, 2021

Blocking Property With Respect to Certain Russian Energy Export Pipelines

GENERAL LICENSE NO. 4

Authorizing the Wind Down of Transactions Involving Nord Stream 2 AG

(a) Except as provided in paragraph (b) of this general license, all transactions prohibited by Executive Order (E.O.) 14039 that are ordinarily incident and necessary to the wind down of transactions involving Nord Stream 2 AG, or any entity in which Nord Stream 2 AG owns, directly or indirectly, a 50 percent or greater interest, are authorized through 12:01 a.m. eastern standard time, March 2, 2022.

(b) This general license does not authorize any transactions involving any person blocked pursuant to E.O. 14039 other than the blocked persons described in paragraph (a) of this general license, unless separately authorized.

Andrea M. Gacki,

Director, Office of Foreign Assets Control.

Dated: February 23, 2022.

OFFICE OF FOREIGN ASSETS CONTROL

Executive Order 14024 of April 15, 2021

Blocking Property With Respect To Specified Harmful Foreign Activities of the Government of the Russian Federation

GENERAL LICENSE NO. 5

Official Business of Certain International Organizations and Entities

All transactions prohibited by Executive Order (E.O.) 14024 that are for the conduct of the official business of the following entities by employees, grantees, or contractors thereof are authorized:

(a) The International Centre for Settlement of Investment Disputes (ICSID) and the Multilateral Investment Guarantee Agency (MIGA);

(b) The African Development Bank Group, the Asian Development Bank, the European Bank for Reconstruction and Development, and the Inter-American Development Bank Group (IDB Group), including any fund entity administered or established by any of the foregoing; and

(c) The International Committee of the Red Cross and the International Federation of Red Cross and Red Crescent Societies.

Note to General License No. 5. See also section 9 of E.O. 14024, which exempts transactions that are for the conduct of the official business of the United Nations (including its specialized agencies, programs, funds, and related organizations) by employees, grantees, or contractors thereof.

Andrea M. Gacki,

Director, Office of Foreign Assets Control.

Dated: February 24, 2022.

OFFICE OF FOREIGN ASSETS CONTROL

Executive Order 14024 of April 15, 2021

Blocking Property With Respect To Specified Harmful Foreign Activities of the Government of the Russian Federation

GENERAL LICENSE NO. 7

Authorizing Overflight Payments, Emergency Landings, and Air Ambulance Services

(a) Except as provided in paragraph (c) of this general license, all transactions prohibited by Executive Order (E.O.) 14024 that are ordinarily incident and necessary to the receipt of, and payment of charges for, services rendered in connection with overflights of the Russian Federation or emergency landings in the Russian Federation by aircraft registered in the United States or owned or controlled by, or chartered to, U.S. persons are authorized.

(b) Except as provided in paragraph (c) of this general license, all transactions prohibited by E.O. 14024 that are ordinarily incident and necessary to provide air ambulance and related medical services, including medical evacuation, to individuals in the Russian Federation are authorized.

(c) This general license does not authorize the opening or maintaining of a correspondent account or payable-through account for or on behalf of any entity subject to Directive 2 under E.O. 14024, Prohibitions Related to Correspondent or Payable-Through Accounts and Processing of Transactions Involving Certain Foreign Financial Institutions.

Andrea M. Gacki,

Director, Office of Foreign Assets Control.

Dated: February 24, 2022.

Andrea M. Gacki,
Director, Office of Foreign Assets Control.

[FR Doc. 2022-19509 Filed 9-8-22; 8:45 am]

BILLING CODE 4810-AL-P